DEPARTMENT OF TRANSPORTATION

Federal Aviation Administration

14 CFR Part 39

[Docket No. FAA-2013-0670; Directorate Identifier 2013-NM-081-AD; Amendment 39-17756; AD 2014-03-19]

RIN 2120-AA64

Airworthiness Directives; the Boeing Company Airplanes

AGENCY: Federal Aviation Administration (FAA), DOT.

ACTION: Final rule.

SUMMARY: We are adopting a new airworthiness directive (AD) for certain The Boeing Company Model 737-600, -700, -800, -900, and -900ER series airplanes modified by particular supplemental type certificates (STCs). This AD was prompted by reports of cracks found during inspections of the in-flight entertainment system radome assembly. This AD requires repetitive detailed inspections for cracks in the radome assembly, and replacement of the radome if necessary. We are issuing this AD to detect and correct cracks in the in-flight entertainment system radome assembly, which could result in the radome (or pieces) separating from the airplane and striking the tail, and consequently reducing the controllability of the airplane.

DATES: This AD is effective April 1, 2014.

The Director of the Federal Register approved the incorporation by reference of a certain publication listed in this AD as of April 1, 2014.

ADDRESSES: For service information identified in this AD, contact Live TV, 8900 Hangar Boulevard, Orlando, FL 32827; phone: 407-812-2600; fax: 407-812-2526; Internet http://www.livetv.net. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2013-0670; or in person at the Docket Management Facility between 9 a.m. and 5 p.m., Monday through Friday, except Federal holidays. The AD docket contains this AD, the regulatory evaluation, any comments received, and other information. The address for the Docket Office (phone: 800-647-5527) is Docket Management Facility, U.S. Department of Transportation, Docket Operations, M-30, West Building Ground Floor, Room W12-140, 1200 New Jersey Avenue SE., Washington, DC 20590.

FOR FURTHER INFORMATION CONTACT: Barry Culler, Aerospace Engineer, Airframe Branch, ACE-117A, FAA, Atlanta Aircraft Certification Office (ACO), 1701 Columbia Avenue, College Park, GA 30337; phone: 404-474-5546; fax: 404-474-5605; email: william.culler@faa.gov.

SUPPLEMENTARY INFORMATION:

Discussion

We issued a notice of proposed rulemaking (NPRM) to amend 14 CFR part 39 by adding an AD that would apply to certain the Boeing Company Model 737-600, -700, -800, -900, and -900ER series airplanes modified by particular supplemental type certificates (STCs). The NPRM published in the Federal Register on August 5, 2013 (78 FR 47233). The NPRM was prompted by reports of cracks found during inspections of the in-flight entertainment system radome assembly. The NPRM proposed to require repetitive detailed inspections for cracks in the radome assembly, and replacement of the radome if necessary. We are issuing this AD to detect and correct cracks in the in-flight entertainment system radome assembly, which could result in the radome (or pieces) separating from the airplane and striking the tail, and consequently reducing the controllability of the airplane.

Comments

We gave the public the opportunity to participate in developing this AD. The following presents the comments received on the proposal (78 FR 47233, August 5, 2013) and the FAA's response to each comment.

Boeing stated that it does not have sufficient information regarding the supplemental type certificates (STCs) referenced in the NPRM (78 FR 47233, August 5, 2013); therefore, it has no comment.

Aviation Partners Boeing stated that the installation of winglets per STC ST00830SE (http://rgl.faa.gov/Regulatory;_and_Guidance_Library/rgstc.nsf/0/DA95C49000906C7086257BE80044D3D9?OpenDocument&Highlight=st00830se) does not affect the accomplishment of the manufacturer's service instructions.

Request To Remove Reporting Requirement

United Air Lines (UAL) requested that the FAA and Live TV re-evaluate the need for the reporting requirement proposed in paragraph (h) of the NPRM (78 FR 47233, August 5, 2013), and remove this proposed requirement. UAL questioned why operators would be required to fill out the service bulletin reporting form provided in Live TV Service Bulletin B737-53-0011, dated March 29, 2013, mentioned in paragraph (h) of the NPRM, and send it to Live TV every time cracking is found on a radome. UAL stated that any radome with cracking would be sent back to the manufacturer with an unserviceable tag attached and that the information on the tag would be the same information requested on the service bulletin reporting form. UAL also noted that the information requested on the reporting form is redundant because the reporting form states that when cracking is found on a radome, the technician has to record his or her name, service work order, and location of accomplishment.

We do not agree to remove the reporting requirement from this final rule. For this AD, Live TV is the STC design approval holder (DAH) and is gathering information reported by operators and reporting this information to the FAA. There is no regulatory requirement for an operator to return a part to a manufacturer. Regarding this final rule, we agree that an operator may voluntarily provide a cracked radome to Live TV, the STC DAH; however, if a reporting requirement was not mandated by this AD, an operator might elect to repair a cracked radome itself, or send it to another facility for repair, instead of sending it to Live TV, so the information requested in the reporting requirement might not be shared with Live TV. We have not changed this final rule in this regard.

Request for Reporting Guidance

UAL noted that the NPRM (78 FR 47233, August 5, 2013) proposed to require operators to record and report the serial number of any cracked radome. UAL stated that numerous times it has discovered that the radome data plate, which has the serial number specified on it, is missing. UAL commented that it can be difficult to use an operator's record keeping system to determine the serial number of a radome because the radome could have been rotated among airplanes. UAL requested guidance regarding what to do if the data plate is missing from a radome.

We agree that the serial number is an important piece of information for the reporting requirement of this final rule. However, this final rule does not require an operator to identify the radome's serial number prior to inspection. The reporting requirement is only required if cracking is found in the radome during the inspection. If cracking is found during the inspection an operator has 30 days to provide the report. This timeframe should be sufficient for operators to identify the radome's serial number by looking at the data plate or the searching the operator's tracking system. The reporting requirement is meant to help Live TV and the FAA trace back to the fabrication records for potential causes of cracking in the radome.

Based on review and consideration during Weibull Analysis, we believe that rotating radomes among airplanes is not a common occurrence. It is ultimately the operator's responsibility to maintain its airplane configurations and subsequently provide the required serial number information. We have not changed this final rule in this regard.

Conclusion

We reviewed the relevant data, considered the comments received, and determined that air safety and the public interest require adopting this AD with the changes described previously and minor editorial changes. We have determined that these minor changes:

• Αre consistent with the intent that was proposed in the NPRM (78 FR 47233, August 5, 2013) for correcting the unsafe condition; and

• Do not add any additional burden upon the public than was already proposed in the NPRM (78 FR 47233, August 5, 2013).

We also determined that these changes will not increase the economic burden on any operator or increase the scope of this AD.

Costs of Compliance

We estimate that this AD affects 165 airplanes of U.S. registry.

We estimate the following costs to comply with this AD:

Estimated Costs
Action | Labor cost | Parts cost | Cost per product | Cost on U.S. operators
Inspections | 1 work-hour × $85 per hour = $85, per inspection cycle | N/A | $85, per inspection cycle | $14,025, per inspection cycle

We estimate the following costs to do any necessary replacements that would be required based on the results of the inspections. We have no way of determining the number of aircraft that might need this replacement:

On-Condition Costs
Action | Labor cost | Parts cost | Cost per product
Replacement | 8 work-hours × $85 per hour = $680 | $23,000 | $23,680

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to the FAA at 800 Independence Ave. SW., Washington, DC 20591, ATTN: Information Collection Clearance Officer, AES-200.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2014-03-19 the Boeing Company: Amendment 39-17756; Docket No. FAA-2013-0670; Directorate Identifier 2013-NM-081-AD.

(a) Effective Date

This AD is effective April 1, 2014.

(b) Affected ADs

None.

(c) Applicability

This AD applies to the Boeing Company Model 737-600, -700, -800, -900, and -900ER series airplanes, certificated in any category, with Live TV radomes having part number 5063-100-V3 or 5063-101-V2 and a serial number in the range of 001 through 497 inclusive, and modified by the applicable supplemental type certificate (STC) identified in paragraphs (c)(1) and (c)(2) of this AD.

(1) ST00284BO (http://rgl.faa.gov/Regulatory_and_Guidance_Library/rgstc.nsf/0/3ecc2e5e5f408bc1862579b30048ed60/$FILE/ST00284BO.pdf).

(2) ST02887AT (http://rgl.faa.gov/Regulatory_and_Guidance_Library/rgstc.nsf/0/9bf85b85ea3e295d8625735600721055/$FILE/ST02887AT.pdf).

(d) Subject

Air Transport Association (ATA) of America Code 53, Fuselage.

(e) Unsafe Condition

This AD was prompted by reports of cracks found during inspections of the radome assembly. We are issuing this AD to detect and correct cracks in the in-flight entertainment system radome assembly, which could result in the radome (or pieces) separating from the airplane and striking the tail, and consequently reducing the controllability of the airplane.

(f) Compliance

Comply with this AD within the compliance times specified, unless already done.

(g) Repetitive Inspections and Corrective Actions

Within 1,250 flight hours after the effective date of this AD: Perform a detailed inspection for cracks of the radome assembly, in accordance with the Accomplishment Instructions of Live TV Service Bulletin B737-53-0011, dated March 29, 2013. Repeat the inspection thereafter at intervals not to exceed 1,250 flight hours. If any crack is found during any inspection required by this paragraph, before further flight, replace the radome, in accordance with the Accomplishment Instructions of Live TV Service Bulletin B737-53-0011, dated March 29, 2013.

(h) Reporting Requirement

If any crack is found during any inspection required by paragraph (g) of this AD, submit a report of the findings to Live TV, 8900 Hangar Boulevard, Orlando, FL 32827; phone: 407-812-2600; fax: 407-812-2526; email JaneAnne.Webb@livetv.net; at the applicable time specified in paragraph (h)(1) or (h)(2) of this AD. The report must include the information specified in the service bulletin reporting form provided in Live TV Service Bulletin B737-53-0011, dated March 29, 2013.

(1) If the inspection was accomplished on or after the effective date of this AD: Submit the report within 30 days after the inspection.

(2) If the inspection was accomplished before the effective date of this AD: Submit the report within 30 days after the effective date of this AD.

(i) Special Flight Permit

Special flight permits, as described in Section 21.197 and Section 21.199 of the Federal Aviation Regulations (14 CFR 21.197 and 21.199), are not allowed.

(j) Paperwork Reduction Act Burden Statement

A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(k) Alternative Methods of Compliance (AMOCs)

(1) The Manager, Atlanta Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (l) of this AD.

(2) Before using any approved AMOC, notify your appropriate principal inspector, or lacking a principal inspector, the manager of the local flight standards district office/certificate holding district office.

(3) If the service information contains steps that are labeled as RC (Required for Compliance), those steps must be done to comply with this AD; any steps that are not labeled as RC are recommended. Those steps that are not labeled as RC may be deviated from, done as part of other actions, or done using accepted methods different from those identified in the specified service information without obtaining approval of an AMOC, provided the steps labeled as RC can be done and the airplane can be put back in a serviceable condition. Any substitutions or changes to steps labeled as RC require approval of an AMOC.

(l) Related Information

For more information about this AD, contact Barry Culler, Aerospace Engineer, Airframe Branch, ACE-117A, FAA, Atlanta Aircraft Certification Office (ACO), 1701 Columbia Avenue, College Park, GA 30337; phone: 404-474-5546; fax: 404-474-5605; email: william.culler@faa.gov.

(m) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Live TV Service Bulletin B737-53-0011, dated March 29, 2013.

(ii) Reserved.

(3) For service information identified in this AD, contact Live TV, 8900 Hangar Boulevard, Orlando, FL 32827; phone: 407-812-2600; fax: 407-812-2526; Internet http://www.livetv.net.

(4) You may view this service information at FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on February 5, 2014.
Jeffrey E. Duven,
Manager, Transport Airplane Directorate, Aircraft Certification Service.

[FR Doc. 2014-03033 Filed 2-24-14; 8:45 am]

BILLING CODE 4910-13-P